DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on March 28, 2002, unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on February 15, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 20, 2002.
Patricia L. Toppings,
Alternate OSD Federal Register Liaison Officer, Department of Defense.

F044 AF TRANSCOM A

System name:

Joint Medical Evacuation System (TRAC²ES).

System location:

United States Transportation Command, Global Patient Movement Requirements Center, Building 505, Rimkus Drive, Room 100, Scott AFB, IL 62225-5049, and Department of Defense medical treatment facilities, evacuation units and medical regulating offices.

Categories of individuals covered by the system:

All active duty, Air National Guard, Army National Guard, Reserve components of the Air Force, Army, Marine Corps, Coast Guard, Public Health Services or National Oceanic and Atmospheric Administration who have been called to Federal Service, and retired personnel of all seven uniformed services as well as their family members, employees of any agency of the U.S. Government including non-appropriated fund and Army and Air Force Exchange Service employees, Air Reserve technicians performing duties as civil servants, and family members (dependents) who reside overseas and who civil service personnel sponsor is stationed overseas requiring transfer to another medical treatment at the request of U.S. Government medical treatment facilities through Patient Movement Requirements Centers.

Categories of records in the system:

TRAC²ES contains information reported by the transferring medical facility which includes, but is not limited to, patient identity, service affiliation and grade or status, sex, medical diagnosis, medical condition, special procedures or requirements needed, medical specialties required, administrative considerations, personal considerations, home address of patient and/or duty station, and other information having an impact on the transfer.

Authority for maintenance of the system:

10 U.S.C. 8013, Secretary of the Air Force; 10 U.S.C. Chapter 55, Medical and Dental Care; 10 U.S.C. 2641, Transportation of Certain Veterans on DoD Aeromedical Evacuation Aircraft; DoD Directive 5154.6, Armed Services Medical Regulating; DoD Instruction 6000.11, Patient Movement; and E.O. 9397 (SSN).

Purpose(s):

Information collected is used to determine the appropriate medical treatment facility to which the reported patient will be transferred; to notify the reporting U.S. Government medical treatment facility of the transfer destination; to notify medical treatment facilities of the transfer; to notify evacuation units and medical regulating offices; to evaluate the effectiveness of reported information; to establish the specific needs of the reported patient; for statistical purposes; and when required by law and official purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: To civilian hospitals for medical reference to ensure proper care is provided.

The DoD “Blanket Routine Uses” set forth at the beginning of the Air Force's compilation of systems of records notices also apply to this system.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD “Blanket Routine Uses” do not apply to these types of records.

Policies and practices for storing, retrieving, accessing, retaining, and disposing of records in the system:

Storage:

Paper records in file folders and electronic back-up tape storage media.

Retrievability:

By individual's name and Social Security Number.

Safeguards:

Records are accessed by custodians of the record system and by person(s) responsible for servicing the record system in performance of their official duties who are properly authorized. When under direct physical control by authorized individuals, records will be electronically stored in computer storage devices protected by computer system software, or in locked file cabinets, locked desk drawers, or locked offices. Computer terminals are located in supervised areas with terminal access controlled by password or other user code systems.

Retention and disposal:

Medical records of active duty U.S. military members are maintained at the medical unit at which the person receives treatment. On separation or retirement, records are forwarded to National Personnel Records Center (NPRC), St. Louis, MO or other designated depository, such as Commandant, US Coast Guard for that agency's personnel, to appropriate Department of Veterans Affairs Regional Office if a VA claim has been filed. Records of non-active duty personnel may be hand carried or mailed to the next military medical facility at which treatment will be received or the records are retained at the treating facility for a minimum of 1 year after date of last treatment then retire to NPRC or other designated depository. At NPRC records for military personnel are retained for 50 years after date of last document, for all others 25 years.

System manager(s) and address:

System Administrator, United States Transportation Command, Global Patient Movement Requirements Center, Building 505, Rimkus Drive, Room 100, Scott AFB, IL 62225-5049.

Notification procedures:

Individuals seeking to determine whether information about them is contained in this system should address written inquiries to Chief, Patient Administration of the Military Treatment Facility where treatment was provided.

Individuals requesting information should provide full name, rank or status and parent service, approximate date of transfer, medical treatment facility from which transferred, and current address and telephone number.

Record access procedures:

Individuals requesting information should provide full name, rank or status and parent service, approximate date of transfer, medical treatment facility from which transferred, and current address and telephone number. Forward request to Chief, Patient Administration of the Military Treatment Facility where treatment was provided.

Contesting record procedures:

The Air Force rules for accessing records, and for contesting contents and appealing initial agency determinations are published in Air Force Instruction 37-132; 32 CFR part 806b; or may be obtained from the system manager.

Record source categories:

Transferring and receiving treatment facilities, medical regulating offices, evacuation offices, agencies and commands relevant to the patient transfer, and from the subject individual.

Exemptions claimed for the system:

None.

[FR Doc. 02-4468 Filed 2-25-02; 8:45 am]

BILLING CODE 5001-08-P